DEPARTMENT OF COMMERCE

National Oceanic and Atmospheric Administration

RIN 0648-XA160

Marine Mammals; File No. 15330

AGENCY: National Marine Fisheries Service (NMFS), National Oceanic and Atmospheric Administration (NOAA), Commerce.

ACTION: Notice; issuance of permit amendment.

SUMMARY: Notice is hereby given that Robin Baird, Ph.D., Cascadia Research, 218½ W. 4th Avenue, Olympia, WA 98501, has been issued a minor amendment to Scientific Research Permit No. 15330.

ADDRESSES: The amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Shasta McClenahan or Carrie Hubard, (301) 427-8401.

SUPPLEMENTARY INFORMATION: The requested amendment has been granted under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The original permit (No. 15330), issued on July 28, 2011 (76 FR 48146) authorized harassment of 40 cetacean species through vessel approach for sighting surveys, photographic identification, behavioral research, opportunistic sampling (breath, sloughed skin, fecal material, and prey remains), and aerial over-flights. All cetacean species except harbor porpoise (Phocoena phocoena), right whales (Eubalaena japonica), Cook Inlet beluga whales (Delphinapterus leucas), and unidentified mesoplodon and baleen species will be targeted for dart and/or suction-cup tagging. Import and export of marine mammal prey specimens, sloughed skin, fecal, and breath samples obtained is authorized. Seven species of pinnipeds may be incidentally harassed during research activities. The original permit was valid through August 1, 2016. The minor amendment (No. 15330-03) extends the duration of the permit through August 1, 2017, but does not change any other terms or conditions of the permit.

Dated: September 23, 2016.
Julia Harrison,
Chief, Permits and Conservation Division, Office of Protected Resources, National Marine Fisheries Service.

[FR Doc. 2016-23339 Filed 9-27-16; 8:45 am]

BILLING CODE 3510-22-P